DEPARTMENT OF TRANSPORTATION

Federal Aviation Administration

14 CFR Part 71

[Docket No. FAA-2019-0900; Airspace Docket No. 19-AWP-80]

RIN 2120-AA66

Proposed Establishment of Multiple Air Traffic Service (ATS) Routes; Hawaiian Islands

AGENCY: Federal Aviation Administration (FAA), DOT.

ACTION: Notice of proposed rulemaking (NPRM).

SUMMARY: This action proposes to establish four United States Area Navigation (RNAV) ATS routes (T-340, T-342, T-344, and T-346) in the Hawaiian Islands. The proposed RNAV ATS routes will facilitate the movement of aircraft among the Hawaiian Islands and will promote operational efficiencies to current and proposed RNAV Standard Instrument Departures (SID) and RNAV Standard Terminal Arrival Routes (STAR), which will enhance the capacity for Hawaiian airports.

DATES: Comments must be received on or before January 27, 2020.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2019-0900; Airspace Docket No. 19-AWP-80 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Kenneth Ready, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to support the flow of air traffic within the National Airspace System.

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2019-0900; Airspace Docket No. 19-AWP-80) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2019-0900; Airspace Docket No. 19-AWP-80.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The T-routes proposed in this NPRM were originally requested by the General Aviation Council of Hawaii and later supported by other national and local aviation user groups. The FAA supported the creation of the routes primarily for the purposes of supporting our efforts to establish Operational Contingency Plans (OCP) ¹ for the facility. A worst-case scenario where Honolulu Control Facility does not have surveillance and communications capability, the routes allow Oakland Center the ability to provide procedural separation services to users in Hawaii; primarily Medevac-type flights.

¹ Operational Contingency Plans (OCP) and supporting procedures that provide continuity are pre-planned actions to respond to events that affect the capability of facilities to provide operational ATC services. OCP provide guidance during contingency operations and establish continuity until normal services can be fully restored.

Additionally, the four routes will provide connectivity to RNAV SIDs and STARs in the Hawaiian Islands. The routes take advantage of NextGen RNAV capabilities providing an enhanced level of safety and system user benefits. These routes support OCP requirements, and to the extent possible, incorporated decisions made by a full work group made up of industry partners, air traffic control, flight standards, state aeronautics, and other user groups. These routes will be repeatable and easy to file and fly, providing seamless routes between island airports.

The proposed new T-routes would support the strategy to transition the National Airspace System (NAS) from a ground-based navigation and radar based system to a satellite-based performance based network system. The proposed T-routes will facilitate the movement of aircraft to, from, and through the Hawaiian Islands. Taking advantage of the capabilities of the advanced flight management systems in modern aircraft, T-routes would serve to reduce air traffic control sector complexity, increase NAS capacity, reduce pilot-to-air traffic controller communications, and allow aircraft to be cleared to their cruising altitude and flight planned route more expeditiously.

The Proposal

The FAA is proposing an amendment to Title 14 Code of Federal Regulations (14 CFR) part 71 to establish United States four RNAV ATS routes T-340, T-342, T-344, and T-346 in the Hawaiian Islands. Full route descriptions are in “The Proposed Amendment” section of this notice.

The proposed new ATS routes are as follows:

T-340: T-340 would extend between the NORBY, HI, FIX to the HILO, HI, VORTAC (ITO). T-340 would provide for a route to the north of the island of Maui avoiding turbulence from strong trade winds. Additionally, T-340 would provide for an alternative weather avoidance route between Oahu and the Big Island.

T-342: T-342 would extend between the KUHIO, HI, WP to the KONA, HI, VORTAC (KOA). T-342 would provide for a route to the north of the island of Molokai and then turn south to KOA VORTAC. This route will provide for weather avoidance.

T-344: T-344 would extend between the NAPUA, HI, FIX to the KONA, HI, VORTAC (KOA). T-344 would provide a route along the south side of the Hawaiian Island chain. Additionally, this offshore route provides a more direct routing from the island of Kauai to the Big Island.

T-346: T-346 would extend between the LIHUA, HI, VORTAC (LIH) to the PAIKO, HI, WP. T-346 would provide a route from the island of Kauai to the Big Island and connect to T-340. Additionally, this route will support single engine aircraft needing to stay within gliding distance to the shoreline.

United States Area Navigation Routes are published in paragraph 6011 of FAA Order 7400.11D dated August 8, 2019, and effective September 15, 2019, which is incorporated by reference in 14 CFR 71.1. The United States Area Navigation Routes listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011—United States Area Navigation Routes

* * * * *

T-340 NORBY, HI to HILO, HI (ITO) [New]
NORBY, HI | FIX | (Lat. 21°09′18.74″ N, long. 157°31′21.71″ W)
HLENA, HI | WP | (Lat. 21°02′18.48″ N, long. 157°14′53.85″ W)
AARES, HI | WP | (Lat. 20°59′55.00″ N, long. 157°05′42.00″ W)
CHAIN, HI | FIX | (Lat. 20°58′22.78″ N, long. 156°55′32.74″ W)
WYLUA, HI | WP | (Lat. 21°05′42.50″ N, long. 156°31′38.18″ W)
BARBY, HI | FIX | (Lat. 20°51′39.55″ N, long. 155°58′47.44″ W)
LONOH, HI | WP | (Lat. 20°21′58.13″ N, long. 155°41′40.54″ W)
WAPIO, HI | FIX | (Lat. 20°11′16.63″ N, long. 155°35′33.58″ W)
VELLA, HI | FIX | (Lat. 20°07′14.35″ N, long. 155°20′53.98″ W)
MALOA, HI | WP | (Lat. 20°03′31.55″ N, long. 155°15′10.50″ W)
ARBOR, HI | FIX | (Lat. 19°58′51.61″ N, long. 155°07′59.70″ W)
Hilo, HI (ITO) | VORTAC | (Lat. 19°43′16.86″ N, long. 155°00′39.44″ W)
T-342 KUHIO, HI to KONA, HI [New]
KUHIO, HI | WP | (Lat. 21°15′18.66″ N, long. 157°49′54.01″ W)
Koko Head, HI (CKH) | VORTAC | (Lat. 21°15′54.40″ N, long. 157°42′10.73″ W)
ALAEY, HI | WP | (Lat. 21°15′17.58″ N, long. 157°27′49.56″ W)
PLUMB, HI | FIX | (Lat. 21°12′42.30″ N, long. 156°36′05.35″ W)
WYLUA, HI | WP | (Lat. 21°05′42.50″ N, long. 156°31′38.18″ W)
Maui, HI (OGG) | VORTAC | (Lat. 20°54′23.30″ N, long. 156°25′15.42″ W)
MAKEN, HI | FIX | (Lat. 20°34′44.22″ N, long. 156°25′10.66″ W)
TAMMI, HI | FIX | (Lat. 20°05′33.56″ N, long. 156°02′00.51″ W)
KONA, HI (KOA) | VORTAC | (Lat. 19°43′02.06″ N, long. 156°02′41.71″ W)
T-344 NAPUA, HI to KONA, HI (KOA) [New]
NAPUA, HI | FIX | (Lat. 21°44′10.93″ N, long. 159°14′38.56″ W)
KEOLA, HI | FIX | (Lat. 21°17′53.24″ N, long. 158°29′25.89″ W)
GECKO, HI | FIX | (Lat. 21°11′32.10″ N, long. 158°18′35.21″ W)
JULLE, HI | FIX | (Lat. 20°57′35.78″ N, long. 157°34′35.29″ W)
ZUKAH, HI | WP | (Lat. 20°15′21.03″ N, long. 156°15′26.08″ W)
Kona, HI (KOA) | VORTAC | (Lat. 19°43′02.06″ N, long. 156°02′41.71″ W)
T-346 LIHUE, HI to PAIKO, HI [New]
Lihue, HI (LIH) | VORTAC | (Lat. 21°57'55.00″ N, long. 159°20′17.20″ W)
KOLEA, HI | WP | (Lat. 21°31′15.28″ N, long. 158°20′37.80″ W)
SHIGI, HI | FIX | (Lat. 21°18′15.11″ N, long. 158°10′17.41″ W)
KUHIO, HI | WP | (Lat. 21°15′18.66″ N, long. 157°49′54.01″ W)
NORBY, HI | FIX | (Lat. 21°09′18.74″ N, long. 157°31′21.71″ W)
MAKEN, HI | FIX | (Lat. 20°34′44.22″ N, long. 156°25′10.66″ W)
NOWRA, HI | WP | (Lat. 20°28′31.23″ N, long. 156°09′17.08″ W)
PAIKO, HI | WP | (Lat. 20°16′22.29″ N, long. 155°38′27.80″ W)

Issued in Washington, DC, on December 2, 2019.
Scott M. Rosenbloom,
Acting Manager, Rules and Regulations Group.

[FR Doc. 2019-26604 Filed 12-11-19; 8:45 am]

BILLING CODE 4910-13-P